DEPARTMENT OF TRANSPORTATION

Federal Aviation Administration

14 CFR Part 39

[Docket No. FAA-2006-25088; Directorate Identifier 2006-NM-085-AD; Amendment 39-14799; AD 2006-22-02]

RIN 2120-AA64

Airworthiness Directives; Airbus Model A300 B4-600, B4-600R, and F4-600R Series Airplanes, and Model A300 C4-605R Variant F Airplanes (Collectively Called A300-600 Series Airplanes)

AGENCY: Federal Aviation Administration (FAA), Department of Transportation (DOT).

ACTION: Final rule.

SUMMARY: The FAA is superseding an existing airworthiness directive (AD), which applies to certain Airbus Model A300-600 series airplanes. That AD currently requires an inspection for evidence of chafing between the hydraulic flexible hose and the ram air turbine (RAT) hub, and related investigative and corrective actions if necessary. This new AD extends the applicability to include all Model A300-600 series airplanes that are equipped with a certain RAT. This AD results from reports of holes in the RAT hub cover. We are issuing this AD to prevent a hole in the RAT hub cover. A hole in the RAT hub cover could allow water to enter the RAT governing mechanism, freeze during flight, and jam the governing mechanism. In addition, the metal particles that result from chafing between the hydraulic flexible hose and the RAT could mix with the lubricant grease and degrade the governing mechanism. In an emergency, a jammed or degraded RAT could result in its failure to deploy, loss of hydraulic pressure or electrical power to the airplane, and consequent reduced controllability of the airplane.

DATES: This AD becomes effective December 1, 2006.

The Director of the Federal Register approved the incorporation by reference of a certain publication listed in the AD as of December 1, 2006.

On August 26, 2005 (70 FR 42267, July 22, 2005), the Director of the Federal Register approved the incorporation by reference of Airbus Service Bulletin A300-29-6054, Revision 01, excluding Appendix 01, dated November 4, 2004.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-15-05, amendment 39-14194 (70 FR 42267, July 22, 2005). The existing AD applies to certain Airbus Model A300-600 series airplanes. That NPRM was published in the Federal Register on June 21, 2006 (71 FR 35575). That NPRM proposed to require an inspection for evidence of chafing between the hydraulic flexible hose and the ram air turbine (RAT) hub, and related investigative and corrective actions if necessary.

Comments

We provided the public the opportunity to participate in the development of this AD. We have considered the comments that have been received on the NPRM.

Request To Provide Chafe Limits in the AD

Air Transport Association (ATA) of America, on behalf of its member, FedEx, requests that we provide the chafe limits for the RAT hub cover in the AD to ensure clarity for compliance purposes. FedEx points out that Airbus Service Bulletin A300-29-6054, Revision 02, dated January 12, 2006 (the appropriate source of service information for accomplishing the required actions), specifies evaluating any damage to the hub cover in accordance with Hamilton Sundstrand Component Maintenance Manual (CMM) 29-21-21. FedEx reviewed CMM 29-21-21 and did not find any discussion of chafing damage. FedEx points out that the CMM addresses only dent limits and scratches. FedEx also points out that, for scratches, the CMM gives repair instructions for those under 0.005 inch in depth or requires replacement, but the CMM gives no serviceable limit. FedEx would like to know if it can assume, since chafing is not specifically addressed in the CMM, that the RAT must be removed immediately and replaced, or if the scratch damage criteria apply. FedEx queried both Hamilton Sundstrand and Airbus for clarification, but states that no publications have yet been revised to provide a reasonable amount of clarity.

Since we issued the NPRM, Hamilton Sundstrand incorporated into CMM 29-21-21, dated March 6, 2006, values that clarify the damage limits for the RAT hub cover, as follows:

• Check criteria, page 505 (check number 35); and

• Repair, page 601 (repair number 16).

CMM 29-21-21 and Airbus Service Bulletin A300-29-6054, Revision 02, state that all external scores, smooth dents, and abrasions that do not include cracks, and that meet the requirement of Flag 1 and Flag 2 of CMM 29-21-21, Figure 818, are acceptable and do not require further action. If damage exceeds the limits provided in Figure 818 of the CMM, the CMM specifies that the cover should be repaired in accordance with CMM 29-21-21, repair number 13. Otherwise, the CMM specifies that the RAT be replaced. Both the CMM and paragraph (f) of the NPRM specify that repair and replacement must be done before further flight. However, operators may request approval of an alternative method of compliance (AMOC) by following the procedures in paragraph (h) of this AD. Since the CMM is secondary reference material, no change to the final rule is needed.

Request To Change Compliance Time

ATA, on behalf of its member, FedEx, requests that the time allotted for operators to accomplish the inspections be increased from 2,500 flight hours to 3,500 flight hours after the effective date of this AD. FedEx states that its A300 maintenance program currently requires heavy maintenance (C-check) to be performed at the earlier of every 3,500 flight hours or 30 months. FedEx states that, since this RAT inspection has the potential for component replacement that cannot be performed at most line maintenance stations because of test equipment requirements, the longer compliance time would help FedEx to align the work with currently scheduled heavy maintenance checks. This longer compliance time would allow FedEx an additional 200 days (according to its utilization rate) to do the inspection in a heavy maintenance environment. FedEx notes that it began doing the inspections specified in the NPRM in June 2006, but has yet to experience any chafing problems.

We do not agree with the commenter's request to change the compliance time. In developing an appropriate compliance time for this action, we considered the urgency associated with the subject unsafe condition, the availability of required parts, and the practical aspect of accomplishing the required modification within a period of time that corresponds to the normal scheduled maintenance for most affected operators. However, operators may request approval of an alternative method of compliance (AMOC) by following the procedures in paragraph (h) of this AD to request a different compliance time if the request includes data that prove that the new compliance time would provide an acceptable level of safety. We have not changed the final rule in this regard.

Conclusion

We have carefully reviewed the available data, including the comments that have been submitted, and determined that air safety and the public interest require adopting the AD as proposed.

Costs of Compliance

The following table provides the estimated costs for U.S. operators to comply with this AD.

Estimated Costs
Action | Work hours | Average labor rate per hour | Cost per airplane | Number of U.S.-registered airplanes | Fleet cost
Inspection | 1 | $80 | $80 | 120 | $9,600
Rework binding | 1 | 80 | 80 | 120 | 9,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14194 (70 FR 42267, July 22, 2005) and by adding the following new airworthiness directive (AD):

2006-22-02 Airbus: Amendment 39-14799. Docket No. FAA-2006-25088; Directorate Identifier 2006-NM-085-AD.

Effective Date

(a) This AD becomes effective December 1, 2006.

Affected ADs

(b) This AD supersedes AD 2005-15-05.

Applicability

(c) This AD applies to Airbus Model A300 B4-601, B4-603, B4-620, B4-622, B4-605R, B4-622R, F4-605R, F4-622R, and C4-605R Variant F airplanes; certificated in any category; equipped with a Hamilton Sundstrand Ram Air Turbine (RAT).

Unsafe Condition

(d) This AD results from reports of holes in the ram air turbine (RAT) hub cover. We are issuing this AD to prevent a hole in the RAT hub cover. A hole in the RAT hub cover could allow water to enter the RAT governing mechanism, freeze during flight, and jam the governing mechanism. In addition, the metal particles that result from chafing between the hydraulic flexible hose and the RAT could mix with the lubricant grease and degrade the governing mechanism. In an emergency, a jammed or degraded RAT could result in its failure to deploy, loss of hydraulic pressure or electrical power to the airplane, and consequent reduced controllability of the airplane.

Compliance

(e) You are responsible for having the actions required by this AD performed within the compliance times specified, unless the actions have already been done.

Restatement of the Requirements of AD 2005-15-05 With Compliance Times for New Airplanes

Inspection and Related Investigative/Corrective Actions

(f) At the applicable time specified in paragraph (f)(1) or (f)(2) of this AD: Do a one-time detailed inspection for evidence of chafing between the hydraulic flexible hose and the RAT hub, and any applicable related investigative and corrective actions, by accomplishing all of the applicable actions specified in the Accomplishment Instructions of Airbus Service Bulletin A300-29-6054, Revision 01, excluding Appendix 01, dated November 4, 2004; or Revision 02, excluding Appendix 01, dated January 12, 2006. After the effective date of this AD, only Revision 02 of the service bulletin may be used. Any applicable corrective actions must be accomplished before further flight. Where the service bulletins specify to submit certain information to the manufacturer, and to submit damaged RATs to the vendor or a repair station, this AD does not include those requirements.

(1) For airplanes having serial numbers (S/Ns) 0812, 0813, 0815 through 0818 inclusive, 0821 through 0828 inclusive, and 0836 through 0838 inclusive: Within 2,500 flight hours after August 26, 2005 (the effective date of AD 2005-15-05).

(2) For airplanes not identified in paragraph (f)(1) of this AD: Within 2,500 flight hours after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Actions Accomplished Previously

(g) Actions accomplished before the effective date of this AD, in accordance with the Accomplishment Instructions of Airbus Service Bulletin A300-29-6054, excluding Appendix 01, dated June 8, 2004, are acceptable for compliance with the corresponding actions specified in this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-15-05 are approved as AMOCs for the corresponding provisions of this AD.

Related Information

(i) French airworthiness directive F-2006-035, dated February 1, 2006, also addresses the subject of this AD.

Material Incorporated by Reference

(j) You must use Airbus Service Bulletin A300-29-6054, Revision 01, excluding Appendix 01, dated November 4, 2004; or Airbus Service Bulletin A300-29-6054, Revision 02, excluding Appendix 01, dated January 12, 2006; to perform the actions that are required by this AD, unless the AD specifies otherwise.

(1) The Director of the Federal Register approved the incorporation by reference of Airbus Service Bulletin A300-29-6054, Revision 02, excluding Appendix 01, dated January 12, 2006, in accordance with 5 U.S.C. 552(a) and 1 CFR part 51.

(2) On August 26, 2005 (70 FR 42267, July 22, 2005), the Director of the Federal Register approved the incorporation by reference of Airbus Service Bulletin A300-29-6054, Revision 01, excluding Appendix 01, dated November 4, 2004.

(3) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on October 11, 2006.
Kalene C. Yanamura,
Acting Manager, Transport Airplane Directorate, Aircraft Certification Service.

[FR Doc. E6-17657 Filed 10-26-06; 8:45 am]

BILLING CODE 4910-13-P